DEPARTMENT OF HEALTH AND HUMAN SERVICES

Substance Abuse and Mental Health Services Administration

Fiscal Year (FY) 2004 Funding Opportunity

AGENCY: Center for Substance Abuse Prevention, Substance Abuse and Mental Health Services Administration, HHS.

ACTION: Notice of intent to award a Single Source Grant to the Iowa Department of Public Health.

SUMMARY: This notice is to inform the public that the Substance Abuse and Mental Health Services Administration (SAMHSA), Center for Substance Abuse Prevention (CSAP), intends to award approximately $200,000 (total costs) for a one-year project period to the Iowa Department of Public Health. This is not a formal request for applications. Assistance will be provided only to the Iowa Department of Public Health based on the receipt of a satisfactory application that is approved by an independent review group.

Funding Opportunity Title: SP 04-010.

Catalog of Federal Domestic Assistance (CFDA) Number: 93.243.

Authority: Section 519E of the Public Health Service Act, as amended.

Justification: Only the Iowa Department of Public Health is eligible to apply. The Substance Abuse and Mental Health Services Administration (SAMHSA), Center for Substance Abuse Prevention (CSAP), is seeking to award a single source supplemental grant to the Iowa Department of Public Health to support methamphetamine prevention infrastructure development to reduce methamphetamine production supply and use.

Iowa has a serious and growing methamphetamine abuse problem. It ranks as the sixth highest state in usage, according to the 2001 preliminary findings of the National Institute of Justice. Problems stemming from widespread use, including increases in treatment admissions, arrests, drug convictions, and seizure of methamphetamine laboratories, have overwhelmed the substance abuse prevention and treatment, and criminal justice systems. Iowa's rural and agricultural nature provides an attractive setting for clandestine methamphetamine production laboratories, since it is characterized by open space, a network of roadways for delivery, and ample raw materials. Consequently, Iowa houses many methamphetamine laboratories.

The dramatic increase in methamphetamine use in the State of Iowa has stimulated the interest and commitment of its business community to partner with the State in responding to the problem. There is a growing awareness in the field of the importance of engaging “mainstream” sectors of the community in prevention activities in order to increase the acceptability, effectiveness, and long-term sustainability of such programs. The interest of Iowa's business community provides the State (and SAMHSA) with a unique opportunity to develop and evaluate a public-private partnership to combat methamphetamine production and cost.

FOR FURTHER INFORMATION CONTACT: Wilma Pinnock, SAMHSA/CSAP, 5600 Fishers Lane, Rockwall II, 9th Floor, Rockville, MD 20857; telephone: (301) 594-3447; E-mail: wpinnock@samhsa.gov.

Dated: March 24, 2004.
Margaret M. Gilliam,
Acting Director, Office of Policy, Planning and Budget, Substance Abuse and Mental Health Services Administration.

[FR Doc. 04-7043 Filed 3-29-04; 8:45 am]

BILLING CODE 4162-20-P